DEPARTMENT OF COMMERCE

National Oceanic and Atmospheric Administration

Proposed Information Collection; Comment Request; Alaska American Fisheries Act (AFA) Permits

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 20, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy Bearden, NMFS Alaska Region, (907) 586-7008 or patsy.bearden@noaa.gov. SUPPLEMENTARY INFORMATION:

I. Abstract

This request is for extension of a currently approved information collection.

National Marine Fisheries Service (NMFS) and the Council developed regulations under the Magnuson-Stevens Act and the American Fisheries Act (AFA) to govern commercial fishing for Bering Sea and Aleutian Islands Management Area (BSAI) pollock according to the requirements of the AFA. These regulations are necessary to achieve the AFA's objective of decapitalization and rationalization of the BSAI pollock fishery.

With exceptions noted below, all participants in the AFA pollock fishery are already permitted and the permits are issued with an indefinite expiration date. The permanent AFA permits are: AFA catcher vessel, AFA catcher/processor, AFA mothership, and AFA inshore processor. The permit exceptions are issued annually—the inshore vessel cooperative permit and inshore vessel contract fishing permit. In addition, the AFA vessel replacement application may be submitted to NMFS at any time.

II. Method of Collection

Respondents have a choice of either electronic or paper forms. Methods of submittal include email, mail, and facsimile transmission of paper forms.

III. Data

OMB Control Number: 0648-0393.

Form Number(s): None.

Type of Review: Regular (extension of a current information collection).

Affected Public: Business or other for-profit organizations.

Estimated Number of Respondents: 134.

Estimated Time per Response: 30 minutes for Application for AFA Permit Application: Rebuild, Replace, or Remove Vessel; 2 hours for Application for AFA Inshore Catcher Vessel Cooperative Permit; 4 hours for Vessel Contract Fishing Notification; 8 hours for Application for Approval as an Entity Eligible to Receive Transferable Chinook Salmon PSC Allocation; 15 minutes for Application to Transfer of Bering Sea Chinook Salmon PSC Allocation.

Estimated Total Annual Burden Hours: 444.

Estimated Total Annual Cost to Public: $271 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 18, 2016.
Sarah Brabson,
NOAA PRA Clearance Officer.

[FR Doc. 2016-09245 Filed 4-20-16; 8:45 am]

BILLING CODE 3510-22-P